DEPARTMENT OF COMMERCE

National Oceanic and Atmospheric Administration

RIN 0648-XA949

Marine Fisheries Advisory Committee

AGENCY: National Marine Fisheries Service (NMFS), National Oceanic and Atmospheric Administration (NOAA), Commerce.

ACTION: Notice of open public meeting.

SUMMARY: This notice sets forth the schedule and proposed agenda of a forthcoming meeting of the Marine Fisheries Advisory Committee (MAFAC). The members will discuss and provide advice on issues outlined in the agenda below.

DATES: The meeting is scheduled for February 7, 2012, 4-6 p.m., Eastern Daylight Time.

ADDRESSES: Conference call. Public access is available at 1311-B East-West Highway, Silver Spring, MD 20910.

FOR FURTHER INFORMATION CONTACT: Mark Holliday, (301) 427-8004; email: Mark.Holliday@noaa.gov.

SUPPLEMENTARY INFORMATION: The MAFAC was established by the Secretary of Commerce (Secretary), and, since 1971, advises the Secretary on all living marine resource matters that are the responsibility of the Department of Commerce. The complete charter and other information are located online at http://www.nmfs.noaa.gov/ocs/mafac/.

Matters To Be Considered

The Committee is convening to prepare comments from MAFAC on the National Ocean Council's draft National Ocean Policy Implementation Strategy. This agenda is subject to change.

Dated: January 18, 2012.
Samuel D. Rauch III,
Acting Assistant Administrator for Fisheries, National Marine Fisheries Service.

[FR Doc. 2012-1263 Filed 1-20-12; 8:45 am]

BILLING CODE 3510-22-P